DEPARTMENT OF TRANSPORTATION

Federal Aviation Administration

14 CFR Part 71

[Docket No. FAA-2003-16342; Airspace Docket No. 03-AAL-15]

Proposed Establishment of Class E Airspace; Southeast, AK

AGENCY: Federal Aviation Administration (FAA), DOT.

ACTION: Notice of proposed rulemaking.

SUMMARY: This action proposes to establish new Class E airspace over Southeast, AK in support of a lower altitude Instrument Flight Rules (IFR) route structure. The FAA, under the Capstone program, is using technology developed to take advantage of the benefits of the Global Positioning System (GPS) and the Wide Area Augmentation System (WAAS) to enhance safety for aircraft utilizing IFR and Visual Flight Rules (VFR) operations. With the support of the Alaska Aviation Industry Council, the Capstone demonstration program that has utilized GPS/WAAS technology successfully in the Yukon-Kuskokwim Delta area is being extended into Southeast Alaska. The Capstone initiative will establish Special GPS/WAAS enroute IFR airways that permit flight at significantly lower altitudes than those available on airways constructed from land based Navigational Aids (NAVAIDS). In addition, both Special and Public Standard Instrument Approach and Departure Procedures will be developed to/from airports throughout the region. The Special IFR enroute and arrival/departure procedures will be authorized for specific operators who have FAA approved equipment and training.

Additional Class E airspace is needed to enable operations under IFR to support the Capstone initiative. Specifically, this action proposes to establish controlled airspace extending from 1,200 feet above ground level (AGL) upwards, to the base of the Class E airspace extending upward from 14,500 feet above the ground, within an area beginning at lat. 58°54′25.2″ N., long. 137°31′55.3″ W. to lat. 58°38′33.2″ N., long. 138°12′21.25″ W., thence southeast along the offshore airspace 12 nautical miles west of and parallel to the shoreline to the point of intersection with the Alaska/Canada Border, thence along the Alaska/Canada Border to the point of beginning excluding that airspace designated for federal airways.

DATES: Comments must be received on or before January 5, 2004.

ADDRESSES: Send comments on the proposal to the Docket Management System, U.S. Department of Transportation, Room Plaza 401, 400 Seventh Street, SW., Washington, DC 20590-0001. You must identify the docket number FAA-2003-16342/Airspace Docket No. 03-AAL-15, at the beginning of your comments. You may also submit comments on the Internet at http://dms.dot.gov. You may review the public docket containing the proposal, any comments received, and any final disposition in person in the Dockets Office between 9 a.m. and 5 p.m., Monday through Friday, except Federal holidays. The Docket Office (telephone 1-800-647-5527) is on the plaza level of the Department of Transportation NASSIF Building at the above address.

An informal docket may also be examined during normal business hours at the office of the Regional Air Traffic Division, Federal Aviation Administration, Manager, Operations Branch, AAL-530, Federal Aviation Administration, 222 West 7th Avenue, Box 14, Anchorage, AK 99513-7587.

FOR FURTHER INFORMATION CONTACT: Derril Bergt, AAL-531, Federal Aviation Administration, 222 West 7th Avenue, Box 14, Anchorage, AK 99513-7587; telephone number (907) 271-2796; fax: (907) 271-2850; e-mail: Derril.Bergt@faa.gov. Internet address: http://www.alaska.faa.gov/at.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2003-16342/Airspace Docket No. 03-AAL-15.” The postcard will be date/time stamped and returned to the commenter.

All communications received on or before the specified closing date for comments will be considered before taking action on the proposed rule. The proposal contained in this notice may be changed in light of comments received. All comments submitted will be available for examination in the public docket both before and after the closing date for comments. A report summarizing each substantive public contact with FAA personnel concerned with this rulemaking will be filed in the docket.

Availability of Notice of Proposed Rulemaking's (NPRM's)

An electronic copy of this document may be downloaded through the Internet at http://dms.dot.gov. Recently published rulemaking documents can also be accessed through the FAA's web page at http://www.faa.gov or the Superintendent of Document's web page at http://www.access.gpo.gov/nara.

Additionally, any person may obtain a copy of this notice by submitting a request to the Federal Aviation Administration, Office of Air Traffic Airspace Management, ATA-400, 800 Independence Avenue, SW., Washington, DC 20591 or by calling (202) 267-8783. Communications must identify both docket numbers for this notice. Persons interested in being placed on a mailing list for future NPRM's should contact the FAA's Office of Rulemaking, (202) 267-9677, to request a copy of Advisory Circular No. 11-2A, Notice of Proposed Rulemaking Distribution System, which describes the application procedure.

The Proposal

The FAA is considering an amendment to the Code of Federal Regulations (14 CFR Part 71) to establish additional Class E airspace over Southeast Alaska. The intended effect of this proposal is to: (1) Provide adequate controlled airspace for commercial air carriers and others conducting Instrument Flight Rules (IFR) operations in Southeast Alaska, (2) Validate new operational procedures and equipment in the IFR environment, (3) Provide an enroute IFR structure for operations that can be flown safely at significantly lower altitudes than those permitted on airways based on land based NAVAIDS, and (4) Provide IFR access via Public and Special approach and departure procedures to airports not otherwise able to connect to the IFR infrastructure. The Flight Standards Division within the Alaskan Region will authorize the use of specific Special procedures for properly equipped aircraft where the flight crews have received the appropriate training.

Satellite-based navigation and positioning is a core element of our National Airspace System (NAS) modernization plans, and is critical to achieving a seamless, efficient global aviation system. Over the period of the past few years, the Federal Aviation Administration (FAA) has been working with commercial, military, and general aviation (GA) users to develop a global satellite-based navigation system independent of conventional ground based navigation aids. Alaska was selected to expand this program through a Research & Development demonstration program called Capstone.

The selection of Alaska for the demonstration project was recommended by the National Transportation Safety Board (NTSB) in their 1995 “Safety Study of Aviation Safety in Alaska.” In part this study concludes:

To the Federal Aviation Administration—

Implement * * * a model program in the Arctic and southeast regions of Alaska to demonstrate a low altitude instrument flight rules (IFR) system that better fulfills the needs of Alaska's air transportation system. The model program should include the following components:

(1) The use of the global positioning system (GPS) as a sole source of navigational information for en route navigation and for nonprecision instrument approaches at a representative number of airports where instrument approaches do not currently exist * * * (2) The use of satellite-based voice communications and satellite-based, Mode S, or VHF data link (for aircraft position and altitude) between aircraft in flight and air traffic controllers * * * (4) The use of currently uncontrolled airspace for IFR departures, en route flight, and instrument approaches in the demonstration program region * * *

From the time of its conception, the FAA Alaskan Region's Capstone Program has been an accelerated effort to improve aviation safety and efficiency. Capstone will further the program through installation of GPS based avionics and data link communications suites in most commercial aircraft serving Southeast Alaska. Up to 200 aircraft will be equipped. Compatible ground systems, equipment, and services will also be provided. The name “Capstone” is derived from the program's effect of drawing and holding together concepts and recommendations contained in reports from the Radio Telecommunications Conference of America (RTCA), the National Transportation Safety Board (NTSB), the MITRE Corporation's Center for Advanced Aviation System Development (CAASD), and Alaskan aviation industry representatives. In addition to the avionics suites, Capstone will deploy a ground infrastructure for weather observation, data link communications, surveillance, and Flight Information Services (FIS) to improve safety and enable implementation of new procedures.

Under the Capstone program, the FAA will develop Area Navigation (RNAV) GPS-based instrument approach and departure procedures to remote communities, including those serviced by seaplanes, such as Angoon. In addition, the FAA will develop an enroute IFR structure in Southeast Alaska that will be available to suitably equipped and trained IFR commercial and private operators. This enroute structure will provide GPS low altitude routes that access existing public and Special instrument approach and departure procedures at Ketchikan, Klawock, Wrangell, Petersburg, Kake, Sitka, and Juneau. The minimum enroute altitudes available on the segments of the Capstone enroute routes will be significantly lower than those available on the public Federal Airway system. In the future, additional IAPs will be considered for development for additional airports and waterlanes in Southeast Alaska.

The purpose of this proposal is to create controlled airspace within Southeast Alaska that is sufficient to contain the new IFR enroute and terminal procedures being developed by the Capstone program. This controlled airspace is needed to provide air traffic control services for the new enroute and terminal public and special instrument procedures. If this action is adopted, it will enhance flight safety by reducing the potential for midair collisions, provide more accurate aircraft navigation, enable flight tracking for ATC and commercial operators, provide better communications, enable transfer of weather and flight information between pilots and ATC, enable surveillance and the use of radar separation standards for ATC IFR separation and tracking, and will improve access to airports in Southeast Alaska.

The proposed new Class E airspace in areas that are currently Class G airspace will have an impact on pilot's flight visibility and cloud avoidance requirements when flying under Visual Flight Rules (VFR), during the day above 1,200 feet AGL. The flight visibility requirement for VFR operations in the new Class E airspace below 10,000 feet MSL will increase to three (3) statute miles. VFR weather minimums are shown in the following table extracted from 14 CFR 91.155 Basic VFR weather minimums:

Basic VFR Weather Minimums
| Flight visibility | Distance from clouds
Class G (Uncontrolled)
1,200 feet or less AGL, day | 1 statute mile | Clear of Clouds.
1,200 feet or less AGL, night | 3 statute miles | 500 feet below, 1,000 feet above, 2,000 feet horizontal.
1,200 feet or more and less than 10,000 feet MSL, day | 1 statute miles | 500 feet below, 1,000 feet above, 2,000 feet horizontal.
1,200 feet or more and less than 10,000 feet MSL, night | 3 statute miles | 500 feet below, 1,000 feet above, 2,000 feet horizontal.
More than 1,200 feet AGL and at or above 10,000 feet MSL | 5 statute miles | 1,000 feet below, 1,000 feet above, 1 statute mile horizontal.
Class E (Controlled)
Less than 10,000 feet MSL | 3 statute miles | 500 feet below, 1,000 feet above, 2,000 feet horizontal.
At or above 10,000 feet MSL | 5 statute miles | 1,000 feet below, 1,000 feet above, 1 statute mile horizontal.

The area would be depicted on aeronautical charts for pilot reference. The coordinates for this airspace docket are based on North American Datum 83. The Class E airspace areas designated as 700/1200 foot transition areas are published in paragraph 6005 in FAA Order 7400.9L, Airspace Designations and Reporting Points, dated September 2, 2003, and effective September 16, 2003, which is incorporated by reference in 14 CFR 71.1. The Class E airspace designations listed in this document would be published subsequently in the Order.

The FAA has determined that this proposed regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

The Proposed Amendment

In consideration of the foregoing, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9L, Airspace Designations and Reporting Points, dated September 2, 2003, and effective September 16, 2003, is to be amended as follows:

* * * * *

Paragraph 6006 En Route Domestic Airspace Areas.

* * * * *

AAL AK E6 Southeast, AK [New]

That airspace extending upward from 1,200 feet AGL to the base of overlaying Class E airspace above 14,500 feet MSL, within an area beginning at lat. 58°54′25.2″ N., long. 137°31′55.3″ W. to lat. 58°38′33.2″ N., long. 138°12′21.25″ W., thence southeast along the offshore airspace 12 nautical miles west of and parallel to the shoreline to the point of intersection with the Alaska, United States/Canada Border, thence along the Alaska, United States/Canada Border to the point of beginning excluding that airspace designated for federal airways and excluding that airspace within the Ketchikan, AK Class E5, the Klawock, AK Class E5, the Wrangell, AK Class E5, the Petersburg, AK Class E5, the Kake, AK Class E5, the Sitka, AK Class E5, and the Juneau, AK Class E5 airspace areas.

* * * * *

Issued in Anchorage, AK, on October 27, 2003.
Trent S. Cummings,
Manager, Air Traffic Division, Alaskan Region.

[FR Doc. 03-28824 Filed 11-18-03; 8:45 am]

BILLING CODE 4910-13-P